ENVIRONMENTAL PROTECTION AGENCY

40 CFR Part 300

[EPA-HQ-SFUND-1999-0010; FRL-9999-76-Region 8]

National Oil and Hazardous Substances Pollution Contingency Plan; National Priorities List: Partial Deletion of the Vasquez Boulevard and I-70 Superfund Site

AGENCY: Environmental Protection Agency (EPA).

ACTION: Final rule.

SUMMARY: The Environmental Protection Agency (EPA) Region 8 announces the deletion of the operable unit 1 (OU1) of the Vasquez Boulevard and I-70 Superfund Site (Site) located in the City and County of Denver, CO, from the National Priorities List (NPL). The NPL, promulgated pursuant to section 105 of the Comprehensive Environmental Response, Compensation, and Liability Act (CERCLA) of 1980, as amended, is an appendix of the National Oil and Hazardous Substances Pollution Contingency Plan (NCP). This partial deletion pertains only to OU1, the residential portion of the Site. The operable unit 2 (OU2) and operable unit 3 (OU3) will remain on the NPL and are not being considered for deletion as part of this action. The EPA and the State of Colorado, through the Colorado Department of Public Health and Environment (CDPHE), have determined that all appropriate response actions under CERCLA, other than operation and maintenance, monitoring and five-year reviews, have been completed. However, the deletion of these parcels does not preclude future actions under Superfund.

DATES: This action is effective September 20, 2019.

ADDRESSES: EPA has established a docket for this action under Docket Identification No. EPA-HQ-SFUND-1999-0010. All documents in the docket are listed on the http://www.regulations.gov website. Although listed in the index, some information is not publicly available, I.e., Confidential Business Information or other information whose disclosure is restricted by statute. Certain other material, such as copyrighted material, is not placed on the internet and will be publicly available only in hard copy form. Publicly available docket materials are available electronically through http://www.regulations.gov or in hard copy at the site information repositories. Locations, contacts, phone numbers and viewing hours are: U.S. Environmental Protection Agency, Region 8, 1595 Wynkoop Street, Denver, CO, Monday to Friday, 9:00 a.m. to 4:00 p.m., and; Valdez-Perry Branch Library, 4690 Vine Street, Denver, CO 80216, (720) 865-0300, Monday and Wednesday 12:00 p.m.-8 p.m., Tuesday, Thursday and Friday 10:00 a.m.-6:00 p.m., Saturday 9:00 a.m.-5:00 p.m., closed on Sunday.

FOR FURTHER INFORMATION CONTACT: Jesse Avilés, Remedial Project Manager, U.S. Environmental Protection Agency, Region 8, SEMD-RBS, Denver, CO 80202, email: aviles.jesse@epa.gov.

SUPPLEMENTARY INFORMATION: The portion of the site to be deleted from the NPL is: the residential portion of the site, identified as OU1, of the Vasquez Boulevard and I-70 Superfund Site, Denver CO. A Notice of Intent for Partial Deletion for this Site was published in the Federal Register (84 FR 2116) on February 6, 2019.

The closing date for comments on the Notice of Intent for Partial Deletion originally was March 8, 2019; this date was extended to April 8, 2019 on www.regulations.gov, by email to interested community members, at public meetings, and by publication of notices in local newspapers. Twenty-seven public comments were received and expressed concerns about non-Superfund projects in the area, the extent of the remedy, and the source of the contaminants. The non-Superfund projects in the area are overseen by other agencies. The properties that were remediated under the Superfund process do not have additional restrictions placed on them. EPA investigations identified possible sources of contamination and the residential properties that needed cleanup. The remedy implemented removed the contaminants associated with the site. Institutional controls are in place for those properties that did not provide access to sample or cleanup. A responsiveness summary was prepared and placed in both the docket, EPA-HQ-SFUND-1999-0010, on www.regulations.gov, and in the local repositories listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 3, 2019.
Gregory E. Sopkin,
Regional Administrator, Region 8.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the entry for “CO”, “Vasquez Boulevard and I-70”, “Denver” to read as follows:

Appendix B to Part 300—National Priorities List

Table 1—General Superfund Section
State | Site name | City/county | Notes (a)
* * * * * * *
CO | Vasquez Boulevard and I-70 | Denver | P.
* * * * * * *
(a) Based on issuance of health advisory by Agency for Toxic Substances and Disease Registry (if scored, HRS score need not be greater than or equal to 28.50).
* * * * * * *
P = Sites with partial deletion(s).

* * * * *

[FR Doc. 2019-19994 Filed 9-19-19; 8:45 am]

BILLING CODE 6560-50-P